DEPARTMENT OF THE INTERIOR

Bureau of Reclamation

California Bay-Delta Public Advisory Committee Public Meeting

AGENCY: Bureau of Reclamation, Interior.

ACTION: Notice of meeting.

SUMMARY: In accordance with the Federal Advisory Committee Act, the California Bay-Delta Public Advisory Committee (Committee) will meet on May 25, 2006. The agenda for the Committee meeting will include discussions with State and Federal agency representatives on the status of the revitalization of the CALFED Bay-Delta Program including the 10-Year Action Plan and Program Plans, priority setting, the changing roles of the CALFED agencies, and the restructuring of the Committee Subcommittees.

DATES: The meeting will be held on Thursday, May 25, 2006, from 9 a.m. to 4 p.m. If reasonable accommodation is needed due to a disability, please contact Colleen Kirtlan at (916) 445-5511 or TDD (800) 735-2929 at least 1 week prior to the meeting.

ADDRESSES: These meetings will be held at the John E. Moss Federal Building located at 650 Capitol Mall, 5th Floor, Sacramento, California.

FOR FURTHER INFORMATION CONTACT: Keith Coolidge, California Bay-Delta Authority, at (916) 445-5551, or Diane Buzzard, U.S. Bureau of Reclamation, at (916) 978-5022.

SUPPLEMENTARY INFORMATION: The Committee was established to provide advice and recommendations to the Secretary of the Interior on implementation of the CALFED Bay-Delta Program. The Committee makes recommendations on annual priorities, integration of the eleven Program elements, and overall balancing of the four Program objectives of ecosystem restoration, water quality, levee system integrity, and water supply reliability. The Program is a consortium of State and Federal agencies with the mission to develop and implement a long-term comprehensive plan that will restore ecological health and improve water management for beneficial uses of the San Francisco/Sacramento and San Joaquin Bay Delta.

Committee agendas and meeting materials will be available prior to all meetings on the California Bay-Delta Authority Web site at http://calwater.ca.gov and at the meetings. These meetings are open to the public. Oral comments will be accepted from members of the public at each meeting and will be limited to 3-5 minutes.

(Authority: The Committee was established pursuant to the Department of the Interior's authority to implement the Water Supply, Reliability, and Environmental Improvement Act, Pub. L. 108-361; the Fish and Wildlife Coordination Act, 16 U.S.C. 661 et seq.; the Endangered Species Act, 16 U.S.C. 1531 et seq.; and the Reclamation Act of 1902, 43 U.S.C. 391 et seq., and the acts amendatory thereof or supplementary thereto, all collectively referred to as the Federal Reclamation laws, and in particular, the Central Valley Project Improvement Act, 34 U.S.C. 3401)

Dated: April 26, 2006.
Allan Oto,
Special Projects Officer, Mid-Pacific Region, U.S. Bureau of Reclamation.

[FR Doc. 06-4306 Filed 5-8-06; 8:45 am]

BILLING CODE 4310-MN-M